ENVIRONMENTAL PROTECTION AGENCY

[OPP-2003-0028; FRL-7290-3]

EPTC; Receipt of Request For Amendments to Delete Uses

AGENCY: Environmental Protection Agency (EPA).

ACTION: Notice.

SUMMARY: In accordance with section 6(f)(1) of the Federal Insecticide, Fungicide, and Rodenticide Act (FIFRA), as amended, EPA is issuing a notice of receipt of request for amendment by Syngenta Crop Protection Inc. (formerly Zeneca Ag Products) to delete uses in certain registrations for products containing S-Ethyl di propyl thiocarbamate or EPTC. In addition, Drexel Chemical Company has asked EPA to cancel or amend their registrations for end-use products containing EPTC. Pursuant to section 6(f)(1) of the Federal Insecticide, Fungicide, and Rodenticide Act (FIFRA), EPA is announcing the Agency's receipt of these requests. These requests for voluntary cancellation were submitted to EPA in March 2000 and February 2002. EPA also plans to issue a cancellation order for the deleted uses at the close of the comment period for this announcement. EPA will decide whether to approve the requests after consideration of public comment.

DATES: Comments on the requested amendments to delete uses must be submitted to the address provided below by March 31, 2003. Withdrawal of request for deletion of use must be submitted in writing to the person listed under FOR FURTHER INFORMATION CONTACT, postmarked before March 31, 2003.

FOR FURTHER INFORMATION CONTACT: Demson Fuller, Special Review and Reregistration Division (7508C), Office of Pesticide Programs, Environmental Protection Agency, 1200 Pennsylvania Ave., NW., Washington, DC 20460; telephone number: (703) 308-8062; e-mail address:fuller.demson@epamail.epa.gov.

SUPPLEMENTARY INFORMATION:

I. General Information

A. Does this Action Apply to Me?

This action is directed to the public in general. You may be potentially affected by this action if you manufacture, sell, distribute, or use EPTC products. The Congressional Review Act, 5 U.S.C. 801 et seq., as added by the Small Business Regulatory Enforcement Fairness Act of 1996, does not apply because this action is not a rule, for purposes of 5 U.S.C. 804(3). Since other entities may also be interested, the Agency has not attempted to describe all the specific entities that may be affected by this action. If you have any questions regarding the applicability of this action to a particular entity, consult the person listed under FOR FURTHER INFORMATION CONTACT.

B. How Can I Get Additional Information, Including Copies of this Document and Other Related Documents?

1. Docket. EPA has established an official public docket for this action under docket identification (ID) number OPP-2003-0028. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/. To access RED documents and RED fact sheets electronically, go directly to the REDs table on the EPA Office of Pesticide Programs Home Page, at http://www.epa.gov/pesticides/reregistration/status.htm.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket ID number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Unit I.B.1. EPA intends to work towards providing electronic access to all of the publicly available docket materials through EPA's electronic public docket.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the docket will be scanned and placed in EPA's electronic public docket. Where practical, physical objects will be photographed, and the photograph will be placed in EPA's electronic public docket along with a brief description written by the docket staff.

II. Request to Amend Registrations

A. Background Information

The Reregistration Eligibility Decision (RED) for EPTC was completed in December 1999. At that time, EPA requested that Syngenta (formerly Zeneca Ag Products) submit field trial data for citrus. On March 21, 2000, Syngenta submitted a written request to EPA seeking to amend the registrations for EPTC, specifically requesting that EPA amend registrations to terminate the use of EPTC on citrus. On August 27, 2000, the registrant further submitted labeling amendments deleting citrus from each label on which it appears. In addition, on February 15, 2002, Drexel Chemical Company requested a voluntary cancellation of citrus for its End-Use products containing EPTC.

B. Requests for Voluntary Cancellation

Under section 6(f)(1)(A) of FIFRA, registrants may request, at any time, that their pesticide registrations be canceled or amended to terminate one or more pesticide uses. Section 6(f)(1)(B) of FIFRA requires that before acting on a request for voluntary cancellation, EPA must provide a 30-day public comment period on the request for voluntary cancellation. In addition, section 6(f)(1)(C) of FIFRA requires that EPA provide a 180-day comment period on a request for voluntary termination of any minor agricultural use before granting the request, unless (1) the registrants request a waiver of the comment period, or (2) the Administrator determines that continued use of the pesticide would pose an unreasonable adverse effect on the environment. The registrants have requested that EPA waive the 180-day comment period. EPA is granting the registrants' request to waive the 180-day comment period. Therefore, EPA will provide a 30-day comment period on the proposed requests. EPA anticipates granting the cancellation request shortly after the end of the 30-day comment period for this notice. The registrations that will be affected by the deletion of citrus are listed in the following Table 1.

Table 1.—End-Use Product Registration Amendment Request
Company | Reg. No | Product Use
Syngenta Crop Protection, Inc. | 100-1023 | EPTAM Technical
Syngenta Crop Protection, Inc. | 100-1025 | EPTAM 7-E Selective Herbicide
Drexel Chemical Company. | 19713-101 | Drexel EPTC-7EC

III. What is the Agency's Authority for Taking this Action?

Section 6(f)(1) of FIFRA provides that a registrant of a pesticide product may at any time request that any of its pesticide registrations be canceled. FIFRA section 6(f)(1) further provides that, before acting on the request, EPA must publish a notice of receipt of any such request in the Federal Register, make reasonable efforts to inform persons who rely on the pesticide for minor agricultural uses, and provide a 30-day period in which the public may comment. Thereafter, the Administrator may approve such a request.

IV. Procedures for Withdrawal of Request

Registrants who choose to withdraw a request for deletion of use must submit such withdrawal in writing to the person listed under FOR FURTHER INFORMATION CONTACT, postmarked before March 31, 2003. This written withdrawal of the request for deletion of use will apply only to the applicable FIFRA section 6(f)(1) request listed in this notice. If the use(s) have been subject to a previous cancellation action, the effective date of cancellation and all other provisions of any earlier cancellation action are controlling. The withdrawal request must also include a commitment to pay any reregistration fees due, and to fulfill any applicable unsatisfied data requirements.

V. Provisions for Disposition of Existing Stocks

The registrants have submitted amendments to amend registrations to delete uses of EPTC identified in Table 1. Pursuant to section 6(f) of FIFRA, EPA expects to grant these requests for amendment upon the close of the comment period. The effective date of this amendment will be the date of the cancellation order. The orders effecting this requested amendment will generally permit a registrant to sell or distribute existing stocks for 1 year after the date the amendment request was received. This policy is in accordance with the Agency's statement of policy as prescribed in the Federal Register of June 26, 1991 (56 FR 29362) (FRL-3846-4). Exceptions to this general rule will be made if a product poses a risk concern, or is in noncompliance with reregistration requirements, or is subject to a Data Call-In. In all cases, product-specific disposition dates will be given in the cancellation orders.

VI. Future Tolerance Revocations

EPA anticipates drafting a future Federal Register notice proposing revocation of this tolerance on commodities which no longer have registered uses of EPTC. In this notice, EPA seeks comment as to whether any individuals or groups want to support continuation of these tolerances.

List of Subjects

Environmental protection, Pesticides and pests.

Dated: February 6, 2003.
Lois Rossi,
Director, Special Review and Reregistration Division, Office of Pesticide Programs.

[FR Doc. 03-4774 Filed 2-27-03; 8:45 am]

BILLING CODE 6560-50-S